NUCLEAR REGULATORY COMMISSION

[NRC-2020-0018]

Standard Review Plan for Applications for 10 CFR Part 70 Licenses for Possession and Use of Special Nuclear Materials of Critical Mass But Not Subject to the Requirements in 10 CFR Part 70, Subpart H

AGENCY: Nuclear Regulatory Commission.

ACTION: Draft NUREG; extension of comment period.

SUMMARY: On December 8, 2022, the U.S. Nuclear Regulatory Commission (NRC) solicited comments on draft NUREG-2212, “Standard Review Plan for Applications for 10 CFR part 70 Licenses for Possession and Use of Special Nuclear Materials of Critical Mass but not Subject to the Requirements in 10 CFR part 70, subpart H.” The public comment period was originally scheduled to close on February 6, 2023. The NRC has decided to extend the public comment period to allow more time for members of the public to develop and submit their comments.

DATES: The due date of comments requested in the document published on December 8, 2022 (87 FR 75295) is extended. Comments should be filed no later than March 31, 2023. Comments received after this date will be considered if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2020-0018. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Osiris Siurano-Perez, Office of Nuclear Material Safety and Safeguards, U.S. Nuclear Regulatory Commission, Washington, DC 20555-0001, telephone: 301-415-7827, email: Osiris.Siurano-Perez@nrc.gov.

SUPPLEMENTARY INFORMATION:

I. Obtaining Information and Submitting Comments

A. Obtaining Information

Please refer to Docket ID NRC-2020-0018 when contacting the NRC about the availability of information for this action. You may obtain publicly available information related to this action by any of the following methods:

• Federal Rulemaking Website: Go to https://www.regulations.gov and search for Docket ID NRC-2020-0018.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. Draft NUREG-2212, “Standard Review Plan for Applications for 10 CFR part 70 Licenses for Possession and Use of Special Nuclear Materials of Critical Mass but not Subject to the Requirements in 10 CFR part 70, subpart H,” and its associated Regulatory Analysis, are available in ADAMS under Accession Nos. ML22335A087 and ML20233A221, respectively.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. Eastern Time (ET), Monday through Friday, except Federal holidays.

B. Submitting Comments

The NRC encourages electronic comment submission through the Federal rulemaking website (https://www.regulations.gov). Please include Docket ID NRC-2020-0018 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 8, 2022 (87 FR 75295), the NRC solicited comments on draft NUREG-2212 “Standard Review Plan for Applications for 10 CFR part 70 Licenses for Possession and Use of Special Nuclear Materials of Critical Mass but not Subject to the Requirements in 10 CFR part 70, subpart H.” This NUREG contains information intended to provide staff guidance to assist applicants and licensees in preparing license applications for possession and use of special nuclear materials exceeding specific threshold quantities. It provides NRC staff reviewers with guidance that describes methods or approaches that the NRC staff has found acceptable for meeting applicable NRC requirements in section 70.22 of title 10 of the Code of Federal Regulations.

The public comment period was originally scheduled to close on February 6, 2023. On January 17, 2022, via electronic communication, the Defense Threat Reduction Agency, an NRC licensee, requested that the NRC extend the comment period until March 31, 2023, to allow a thorough review of the proposed NUREG as well as consideration of other relevant references. The request was also supported by stakeholders participating in a January 18, 2023, public meeting to discuss the availability of the NUREG and supporting Regulatory Analysis. After considering this request and given stakeholder support, the NRC staff has determined that extending the comment period is in the best interest of the public and, therefore, is extending the comment period as requested.

Dated: January 26, 2023.
For the Nuclear Regulatory Commission.
Shana R. Helton,
Director, Division of Fuel Management, Office of Nuclear Material Safety and Safeguards.

[FR Doc. 2023-01986 Filed 1-30-23; 8:45 am]

BILLING CODE 7590-01-P